DEPARTMENT OF THE INTERIOR

Bureau of Reclamation

[RR03042000, 15XR0680A1, RX.18786000.100 0000]

Agency Information Collection Activities; Proposed Revisions to a Currently Approved Information Collection (OMB Control Number 1006-0015)

AGENCY: Bureau of Reclamation, Interior.

ACTION: Notice and request for comments.

SUMMARY: We, the Bureau of Reclamation, intend to submit a request for renewal (with revisions) of an existing approved information collection to the Office of Management and Budget (OMB) titled, Diversions, Return Flow, and Consumptive Use of Colorado River Water in the Lower Colorado River Basin, OMB Control Number 1006-0015.

DATES: Submit written comments on this revised information collection request on or before November 27, 2015.

ADDRESSES: Send written comments or requests for copies of the proposed revised forms to Mr. Paul Matuska, Bureau of Reclamation, Boulder Canyon Operations Office, Water Accounting and Verification Group, LC-4200, P.O. Box 61470, Boulder City, NV 89006, or via email to pmatuska@usbr.gov.

FOR FURTHER INFORMATION CONTACT: Paul Matuska at 702-293-8164.

SUPPLEMENTARY INFORMATION:

I. Abstract

The Bureau of Reclamation delivers Colorado River water to water users for diversion and beneficial consumptive use in the States of Arizona, California, and Nevada. The Consolidated Decree of the United States Supreme Court in the case of Arizona v. California, et al., entered March 27, 2006 (547 U.S. 150 (2006)), requires the Secretary of the Interior to prepare and maintain complete, detailed, and accurate records of diversions of water, return flow, and consumptive use and make these records available at least annually. The information collected ensures that a State or a water user within a State does not exceed its authorized use of Colorado River water. Water users are obligated by provisions in their water delivery contracts to provide Reclamation information on diversions and return flows. Reclamation determines the consumptive use by subtracting return flow from diversions or by other engineering means.

II. Changes to Use Data Reports

The Form LC-72, Record of Water Diverted From Lake Mead and/or the Colorado River for Use in the State of Nevada, is no longer needed because the water entitlement holder who used the form is no longer able to withdraw water from the Colorado River.

III. Data

OMB Control Number: 1006-0015.

Title: Diversions, Return Flow, and Consumptive Use of Colorado River Water in the Lower Colorado River Basin.

Frequency: Monthly, annually, or otherwise as determined by the Secretary of the Interior.

Respondents: Includes local and tribal entities, water districts, and individuals that use Colorado River water in the Lower Basin States (Arizona, California, and Nevada).

Estimated total number of respondents: 53.

Estimated number of responses per respondent: 1 annually and/or 12 monthly.

Estimated total number of annual responses: 280.

Estimated total annual burden on respondents: 46.7 hours.

Estimated burden for each form: 10 minutes.

Form No. | Estimated number of respondents | Total responses per year | *Estimated annual burden hours per form
LC-72A | 1 | 1 | 0.2
LC-72B | 24 | 24 | 4.0
Custom Forms | 28 | 255 | 42.5
Total | 53 | 280 | 46.7

IV. Request for Comments

We invite your comments on:

(a) Whether the collection of information is necessary for the proper performance of our functions, including whether the information will have practical use;

(b) The accuracy of our estimated time and cost burden of the collection of information, including the validity of the methodology and assumptions used;

(c) Ways to enhance the quality, usefulness, and clarity of the information to be collected; and

(d) Ways to minimize the burden of the collection of information on respondents, including increased use of automated collection techniques or other forms of information technology.

We will summarize all comments received regarding this notice. We will publish that summary in the Federal Register when the information collection request is submitted to OMB for review and approval.

V. Public Disclosure

Before including your address, phone number, email address, or other personal identifying information in your comment, you should be aware that your entire comment—including your personal identifying information—may be made publicly available at any time. While you can ask us in your comment to withhold your personal identifying information from public review, we cannot guarantee that we will be able to do so.

Dated: September 14, 2015.
Jennifer McCloskey,
Acting Regional Director, Lower Colorado Region.

[FR Doc. 2015-24548 Filed 9-25-15; 8:45 am]

BILLING CODE 4332-90-P